FEDERAL ACCOUNTING STANDARDS ADVISORY BOARD

Notice of Issuance of TR 21, Omnibus Technical Release Amendments 2022: Conforming Amendments

AGENCY: Federal Accounting Standards Advisory Board.

ACTION: Notice.

SUMMARY: Notice is hereby given that the Federal Accounting Standards Advisory Board (FASAB) has issued Technical Release (TR) 21, Omnibus Technical Release Amendments 2022: Conforming Amendments.

ADDRESSES: The issuance is available on the FASAB website at https://fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), Federal Advisory Committee Act, as amended (5 U.S.C. app.).

Dated: September 6, 2022.
Monica R. Valentine,
Executive Director.

[FR Doc. 2022-19487 Filed 9-8-22; 8:45 am]

BILLING CODE 1610-01-P